NATIONAL AERONAUTICS AND SPACE ADMINISTRATION

[Notice: 25-030]

NASA Advisory Council; Charter Renewal; Charter Renewal

AGENCY: National Aeronautics and Space Administration.

ACTION: Notice of renewal of charter of the NASA Advisory Council (NAC).

SUMMARY: Pursuant to sections 14(b)(1) and 9(c) of the Federal Advisory Committee Act (Pub. L. 92-463), and after consultation with the Committee Management Secretariat, General Services Administration, the NASA Administrator has determined that the renewal of the charter of the NAC is in the public interest in connection with the performance of duties imposed on NASA by law. The renewed charter is for a two-year period ending September 30, 2027.

FOR FURTHER INFORMATION CONTACT: Ms. Jamie M. Krauk, Designated Federal Officer, NASA Advisory Council, Office of International and Interagency Relations, NASA Headquarters, Washington, DC 20546; phone (202) 961-4004; email jamie.m.krauk@nasa.gov.

Jamie M. Krauk,
Advisory Committee Management Officer, National Aeronautics and Space Administration.

[FR Doc. 2025-16460 Filed 8-27-25; 8:45 am]

BILLING CODE 7510-13-P